DEPARTMENT OF VETERANS AFFAIRS

38 CFR Part 3

RIN 2900-AL19

Cross Reference Change in Forms To Be Furnished

AGENCY: Department of Veterans Affairs.

ACTION: Final rule.

SUMMARY: This document amends the Department of Veterans Affairs (VA) adjudication regulations regarding forms to be furnished by VA to update a cross-reference listed at the end of a regulation. This amendment is necessary to ensure the regulation's cross-reference accurately cites the new title of the cross-referenced regulation.

DATES: Effective Date: June 14, 2002.

FOR FURTHER INFORMATION CONTACT: Randy A. McKevitt, Consultant, Regulations Staff, Compensation and Pension Service, Veterans Benefits Administration, 810 Vermont Avenue, NW., Washington, DC 20420, telephone (202) 273-7138.

SUPPLEMENTARY INFORMATION: VA's regulation 38 CFR 3.150, “Forms to be furnished,” has at the end of the regulation a cross-reference to “Failure to furnish claim form or notice of time limit. See § 3.109(b).” In a previous VA amendment to § 3.109, we changed the title of subparagraph § 3.109(b) to “Extension of time limit.” This amendment changes the cross-reference in § 3.150 to “Extension of time limit.”

This document only makes a technical correction to the regulation, which under the provisions of 5 U.S.C. 553, is exempt from the prior notice and public comment and delayed effective date provisions.

Paperwork Reduction Act

This document contains no provisions constituting a collection of information under the Paperwork Reduction Act (44 U.S.C. 3501-3520).

Unfunded Mandates

The Unfunded Mandates Reform Act requires (in section 202) that agencies prepare an assessment of anticipated costs and benefits before developing any rule that may result in an expenditure by State, local, or tribal governments, in the aggregate, or by the private sector of $100 million or more in any given year. This rule would have no consequential effect on State, local, or tribal governments.

Regulatory Flexibility Act

The Secretary hereby certifies that this regulatory amendment will not have a significant economic impact on a substantial number of small entities as they are defined in the Regulatory Flexibility Act, 5 U.S.C. 601-612. The reason for this certification is that this regulatory amendment would not directly affect any small entities. Only VA beneficiaries could be directly affected. Therefore, pursuant to 5 U.S.C. 605(b), this amendment is exempt from the initial and final regulatory flexibility analysis requirements of sections 603 and 604.

Catalog of Federal Domestic Assistance Numbers

The Catalog of Federal Domestic Assistance program numbers are 64.100, 64.101, 64.102, 64.104, 64.105, 64.106, 64.109, 64.110, 64.115, 64.116, and 64.127.

List of Subjects in 38 CFR part 3

Administrative practice and procedure, Claims, Disability benefits, Health Care, Pensions, Veterans, Vietnam.

Approved: June 6, 2002.
Anthony J. Principi,
Secretary of Veterans Affairs.

For the reasons set forth in the preamble, 38 CFR part 3 is amended as follows:

PART 3—ADJUDICATION

Subpart A—Pension, Compensation, and Dependency and Indemnity Compensation

1. The authority citation for part 3, subpart A, continues to read as follows:

Authority: 38 U.S.C. 501(a), unless otherwise noted.

2. The Cross reference at the end of § 3.150 is revised to read as follows:

§ 3.150 Forms to be furnished.

* * * * *

Cross Reference: Extension of time limit. See § 3.109(b).

[FR Doc. 02-15075 Filed 6-13-02; 8:45 am]

BILLING CODE 8320-01-P